DEPARTMENT OF THE INTERIOR

Bureau of Land Management

[MT-926-06-1910-BJ-5REO]

Montana: Filing of Plats of Survey

AGENCY: Bureau of Land Management, Montana State Office, Interior.

ACTION: Notice of filing of plats of survey.

SUMMARY: The Bureau of Land Management (BLM) will file the plats of survey of the lands described below in the BLM Montana State Office, Billings, Montana, (30) days from the date of publication in the Federal Register.

FOR FURTHER INFORMATION CONTACT: Josh Alexander, Cadastral Surveyor, Branch of Cadastral Survey, Bureau of Land Management, 5001 Southgate Drive, PO Box 36800, Billings, Montana 59107-6800, telephone (406) 896-5123 or (406) 896-5009.

SUPPLEMENTARY INFORMATION: This survey was executed at the request of the Crow Agency, through the Rocky Mountain Regional Director, Bureau of Indian Affairs and was necessary to determine Trust and Tribal land.

The lands we surveyed are:

Principal Meridian, Montana

T. 5 S., R. 31 E.

The plat, in 1 sheet, representing the dependent resurvey of a portion of the east boundary, a portion of the subdivisional lines, and the adjusted original meanders of the right bank of the Big Horn River, downstream, through section 25, and the subdivision of section 25, and the survey of the meanders of the present right bank of the Big Horn River, downstream, through section 25, and certain division of accretion lines, Township 5 South, Range 31 East, Principal Meridian, Montana, was accepted September 7, 2005.

Principal Meridian, Montana

T. 5 S., R. 32 E.

The plat, in 1 sheet, representing the dependent resurvey of a portion of the west boundary, a portion of the subdivisional lines, the subdivision of section 30, a portion of the adjusted original meanders of the right bank of the Big Horn River, downstream, through section 30, and a certain division of accretion line, and the subdivision of section 30, and the survey of a portion of the meanders of the present right bank of the Big Horn River, downstream, through section 30, and a certain division of accretion line, Township 5 South, Range 32 East, Principal Meridian, Montana, was accepted September 8, 2005.

We will place copies of the plats, in 2 sheets, and related field notes we described in the open files. They will be available to the public as a matter of information.

If BLM receives a protest against these surveys, as shown on these plats, in two sheets, prior to the date of the official filing, we will stay the filing pending our consideration of the protest.

We will not officially file these plats, in two sheets, until the day after we have accepted or dismissed all protests and they have become final, including decisions or appeals.

Dated: September 13, 2005.
Steven G. Schey,
Acting Chief Cadastral Surveyor, Division of Resources.

[FR Doc. 05-18686 Filed 9-19-05; 8:45 am]

BILLING CODE 4310-$$-P